DEPARTMENT OF HEALTH AND HUMAN SERVICES

National Institutes of Health

Center for Scientific Review; Amended Notice of Meeting

Notice is hereby given of a change in the meeting of the Lung Cellular, Molecular, and Immunobiology Study Section, June 4, 2019, 08:00 a.m. to June 5, 2019, 03:00 p.m., Hilton Baltimore Inner Harbor, 401 W Pratt Street, Baltimore, MD 21201, which was published in the Federal Register on April 16, 2019, 84 FR PG 15624.

The meeting location is being changed to Hilton Baltimore Inner Harbor, 401 W Pratt Street, Baltimore, MD 21201. Meeting dates remain the same. The meeting is closed to the public.

Dated: May 24, 2019.
Natasha M. Copeland,
Program Analyst, Office of Federal Advisory Committee Policy.

[FR Doc. 2019-11328 Filed 5-30-19; 8:45 am]

BILLING CODE 4140-01-P